DEPARTMENT OF STATE

[Public Notice 3217]

Culturally Significant Objects Imported for Exhibition Determinations: “The Renaissance Portrait in Northern Italy: The Art of Giovanni Battista Moroni”

AGENCY: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “The Renaissance Portrait in Northern Italy: The Art of Giovanni Battista Moroni,” imported from abroad for temporary exhibition without profit within the United States, are of cultural significance. These objects are imported pursuant to loan agreements with foreign lenders. I also determine that the exhibition or display of the exhibit objects at the Kimbell Art Museum, Fort Worth, Texas, from on or about February 27, 2000, to on or about May 28, 2000, is in the national interest.

FOR FURTHER INFORMATION CONTACT: For further information, including a list of exhibit objects, contact Lorie J. Nierenberg, Attorney-Adviser, Office of the Legal Adviser, U.S. Department of State (telephone: 202/619-6084). The address is U.S. Department of State, SA-44; 301-4th Street, S.W., Room 700, Washington, DC 20547-0001.

Dated: January 31, 2000.
William B. Bader,
Assistant Secretary for Educational and Cultural Affairs,U.S. Department of State.

[FR Doc. 00-2713 Filed 2-4-00; 8:45 am]

BILLING CODE 4710-08-U